DEPARTMENT OF AGRICULTURE

Forest Service

Divide Ranger District, Rio Grande National Forest; CO; Black Mesa Vegetation Management Project

AGENCY: Forest Service, USDA.

ACTION: Notice of intent to prepare an environmental impact statement.

SUMMARY: The Divide Ranger District, Rio Grande National Forest, proposes to salvage timber stands killed or infested by spruce beetles; reduce fuel loading, particularly adjacent to private lands; cut potential hazard trees along private property, roads, and other infrastructure; and regenerate forested acres, as needed, to move toward the long-term desired conditions described in the Forest Plan.

DATES: Comments concerning the scope of the analysis must be received by May 20, 2011. The draft environmental impact statement is expected in March 2012 and the final environmental impact statement is expected in July 2012.

ADDRESSES: Send written comments to Diana McGinn, Team Leader, San Luis Valley Public Land Center, 1803 W. Hwy. 160, Monte Vista, CO 81144. Comments may also be sent via e-mail to comments-rocky-mountain-rio-grande-divide@fs.fed.us, or via facsimile to 719-852-6250, with subject Black Mesa Vegetation Management Project Public Comment.

FOR FURTHER INFORMATION CONTACT: Diana McGinn at 719-852-6241 or visit the Forest Web site http://www.fs.usda.gov/riogrande under “Land & Resource Management”, then “Projects” on the left side of the Web page.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose and need for the Black Mesa Vegetation Management Project is move toward achieving long-term desired conditions described in the Forest Plan for this area following extensive tree mortality caused by epidemic levels of spruce beetles. Actions taken to meet these goals would include: (1) Harvesting dead and dying trees to provide wood products, while reducing the continuous extent of large fuels, particularly around private lands; and (2) removing trees that create a potential safety hazard in areas of concentrated public use or that have the potential to damage public or private property as they fall.

Proposed Action

The Rio Grande National Forest proposes to harvest and regenerate timber stands killed by or infested with spruce beetles in an area located approximately 15 miles west of Creede, Colorado. The project would use the existing transportation system except for the construction of approximately 3.6 miles of new temporary road. All new roads or other roads currently closed would be rehabilitated and closed following use. Tree planting would follow harvest operations in areas with inadequate existing regeneration or where aspen sprouting is unlikely, in order to maintain diverse forest cover over the long-term.

Responsible Official

Divide District Ranger/Field Office Manager at 13308 W. Hwy. 160, Del Norte, CO, 81132.

Nature of Decision To Be Made

An environmental impact statement (EIS) that discloses the environmental consequences of implementing the proposed action and alternatives to the proposed action, including No Action, will be prepared. A separate Record of Decision (ROD) will explain the Responsible Official's decision regarding whether or not to implement some level of timber harvest and other proposed activities on all, part, or none of the area analyzed, given the consideration of multiple-use goals and objectives.

Preliminary Issues

The effect of proposed activities on habitat structural needs of the local population of Canada Lynx, a Threatened species, and their primary prey, the snowshoe hare.

Scoping Process

This notice of intent initiates the scoping process, which guides the development of the environmental impact statement. The Forest invites public comment and participation for this project by publication of this notice. Comments are also invited by: publication in the quarterly Schedule of Proposed Actions (SOPA); public notice regarding this project in the newspaper of record, the Valley Courier; letters to potentially interested individuals, Tribal governments, elected officials, and State and other Federal Agencies. One or more scoping meetings with adjacent landowners and other interested individuals or agencies will be scheduled individually and/or announced in the Valley Courier. Information will also be posted on the Rio Grande National Forest Web site as this project progresses. Comments received during these scoping efforts will be considered in this EIS.

It is important that reviewers provide their comments at such times and in such manner that they are useful to the agency's preparation of the environmental impact statement. Therefore, comments should be provided prior to the close of the scoping period and should clearly articulate the reviewer's concerns and contentions.

Comments received in response to this solicitation, including names and addresses of those who comment, and will be part of the public record for this proposed action. Comments submitted anonymously will be accepted and considered; however anonymous comments will not provide the Agency with the ability to provide the respondent with subsequent environmental documents.

Dated: April 13, 2011.
Thomas Malecek,
District Ranger/Field Office Manager.

[FR Doc. 2011-9555 Filed 4-19-11; 8:45 am]

BILLING CODE 3410-11-P